FEDERAL MARITIME COMMISSION

Ocean Transportation Intermediary Licenses Correction

In the OTI Applicant Notice published in the Federal Register on March 8, 2007 (72 FR 10532) reference to the name of the ASBCO Container Sevices Inc. is corrected to read:

“ASECO Container Services Inc.”

Dated: April 6, 2007.
Bryant L. VanBrakle,
Secretary.

[FR Doc. E7-6859 Filed 4-10-07; 8:45 am]

BILLING CODE 6730-01-P